ENVIRONMENTAL PROTECTION AGENCY

40 CFR Part 63

[EPA-R09-OAR-2007-0322; FRL-8309-7]

Delegation of National Emission Standards for Hazardous Air Pollutants for Source Categories; State of Arizona, Arizona Department of Environmental Quality; State of Nevada, Nevada Division of Environmental Protection

AGENCY: Environmental Protection Agency (EPA).

ACTION: Direct final rule.

SUMMARY: EPA is amending certain regulations to reflect the current delegation status of national emission standards for hazardous air pollutants (NESHAP) in Arizona and Nevada. Several NESHAP were delegated to the Arizona Department of Environmental Quality on March 16, 2007, and to the Nevada Division of Environmental Protection on January 12, 2007. The purpose of this action is to update the listing in the Code of Federal Regulations.

DATES: This rule is effective on July 9, 2007 without further notice, unless EPA receives adverse comments by June 7, 2007. If we receive such comments, we will publish a timely withdrawal in the Federal Register to notify the public that this direct final rule will not take effect.

ADDRESSES: Submit comments, identified by docket number EPA-R09-OAR-2007-0322, by one of the following methods:

1. Federal eRulemaking Portal: www.regulations.gov. Follow the on-line instructions.

2. E-mail: steckel.andrew@epa.gov.

3. Mail or delivery: Andrew Steckel (Air-4), U.S. Environmental Protection Agency Region IX, 75 Hawthorne Street, San Francisco, CA 94105-3901.

Instructions: All comments will be included in the public docket without change and may be made available online at www.regulations.gov, including any personal information provided, unless the comment includes Confidential Business Information (CBI) or other information whose disclosure is restricted by statute. Information that you consider CBI or otherwise protected should be clearly identified as such and should not be submitted through www.regulations.gov or e-mail. www.regulations.gov is an “anonymous access” system, and EPA will not know your identity or contact information unless you provide it in the body of your comment. If you send e-mail directly to EPA, your e-mail address will be automatically captured and included as part of the public comment. If EPA cannot read your comment due to technical difficulties and cannot contact you for clarification, EPA may not be able to consider your comment.

Docket: The index to the docket for this action is available electronically at www.regulations.gov and in hard copy at EPA Region IX, 75 Hawthorne Street, San Francisco, California. While all documents in the docket are listed in the index, some information may be publicly available only at the hard copy location (e.g., copyrighted material), and some may not be publicly available in either location (e.g., CBI). To inspect the hard copy materials, please schedule an appointment during normal business hours with the contact listed in the FOR FURTHER INFORMATION CONTACT section.

FOR FURTHER INFORMATION CONTACT: Mae Wang, EPA Region IX, (415) 947-4124, wang.mae@epa.gov.

SUPPLEMENTARY INFORMATION: Throughout this document, “we,” “us” and “our” refer to EPA.

Table of Contents

I. Background

A. Delegation of NESHAP

B. ADEQ Delegations

C. NDEP delegations

II. EPA Action

III. Statutory and Executive Order Reviews

I. Background

A. Delegation of NESHAP

Section 112(l) of the Clean Air Act, as amended in 1990 (CAA), authorizes EPA to delegate to state or local air pollution control agencies the authority to implement and enforce the standards set out in the Code of Federal Regulations, Title 40 (40 CFR), Part 63, National Emission Standards for Hazardous Air Pollutants for Source Categories. On November 26, 1993, EPA promulgated regulations, codified at 40 CFR Part 63, Subpart E (hereinafter referred to as “Subpart E”), establishing procedures for EPA's approval of state rules or programs under section 112(l) (see 58 FR 62262). Subpart E was later amended on September 14, 2000 (see 65 FR 55810).

Any request for approval under CAA section 112(l) must meet the approval criteria in 112(l)(5) and Subpart E. To streamline the approval process for future applications, a State or local agency may submit a one-time demonstration that it has adequate authorities and resources to implement and enforce any CAA section 112 standards. If such demonstration is approved, then the state or local agency would no longer need to resubmit a demonstration of these same authorities and resources for every subsequent request for delegation of CAA section 112 standards. However, EPA maintains the authority to withdraw its approval if the State does not adequately implement or enforce an approved rule or program.

B. ADEQ Delegations

On July 17, 1998, EPA published a direct final action delegating to the Arizona Department of Environmental Quality (ADEQ) several NESHAP and approving ADEQ's delegation mechanism for future standards (see 63 FR 38478). That action explained the procedure for EPA to grant future delegations to ADEQ by letter, with periodic Federal Register listings of standards that have been delegated. On February 21, 2007, ADEQ requested delegation of the following NESHAP contained in 40 CFR Part 63:

• Subpart J—NESHAP for Polyvinyl Chloride and Copolymers Production

• Subpart MM—NESHAP for Chemical Recovery Combustion Sources at Kraft, Soda, Sulfite, and Stand-Alone Semichemical Pulp Mills

• Subpart XX—National Emission Standards for Ethylene Manufacturing Process Units: Heat Exchange Systems and Waste Operations

• Subpart OOO—National Emission Standards for Hazardous Air Pollutant Emissions: Manufacture of Amino/Phenolic Resins

• Subpart QQQ—National Emission Standards for Primary Copper Smelting

• Subpart RRR—National Emission Standards for Secondary Aluminum Production

• Subpart UUU—National Emission Standards for Petroleum Refineries: Catalytic Cracking, Catalytic Reforming, and Sulfur Plan Units

• Subpart VVV—NESHAP: Publicly Owned Treatment Works

• Subpart AAAA—National Emission Standards for Municipal Solid Waste Landfills

• Subpart CCCC—National Emission Standards for Manufacturing of Nutritional Yeast

• Subpart EEEE—National Emission Standards for Organic Liquids Distribution (Non-Gasoline)

• Subpart FFFF—NESHAP: Miscellaneous Organic Chemical Manufacturing

• Subpart GGGG—National Emission Standards for Solvent Extraction for Vegetable Oil Production

• Subpart HHHH—National Emission Standards for Wet-Formed Fiberglass Mat Production

• Subpart IIII—NESHAP: Surface Coating of Automobiles and Light-Duty Trucks

• Subpart JJJJ—NESHAP: Paper and Other Web Coating

• Subpart KKKK—NESHAP: Surface Coating of Metal Cans

• Subpart MMMM—NESHAP for Surface Coating of Miscellaneous Metal Parts and Products

• Subpart NNNN—National Emission Standards for Large Appliances

• Subpart OOOO—NESHAP: Printing, Coating, and Dyeing of Fabrics and Other Textiles

• Subpart PPPP—NESHAP for Surface Coating of Plastic Parts and Products

• Subpart QQQQ—National Emission Standards for Wood Building Products

• Subpart RRRR—National Emission Standards for Surface Coating of Metal Furniture

• Subpart SSSS—National Emission Standards for Surface Coating of Metal Coil

• Subpart TTTT—National Emission Standards for Leather Finishing Operations

• Subpart UUUU—National Emission Standards for Cellulose Products Manufacturing

• Subpart VVVV—National Emission Standards for Boat Manufacturing

• Subpart WWWW—National Emission Standards for Reinforced Plastics Composites Production

• Subpart XXXX—National Emission Standards for Tire Manufacturing

• Subpart YYYY—NESHAP for Stationary Combustion Turbines

• Subpart ZZZZ—NESHAP for Stationary Reciprocating Internal Combustion Engines

• Subpart AAAAA—NESHAP for Lime Manufacturing Plants

• Subpart BBBBB—National Emission Standards for Semiconductor Manufacturing

• Subpart CCCCC—National Emission Standards for Coke Ovens: Pushing, Quenching, and Battery Stacks

• Subpart EEEEE—NESHAP for Iron and Steel Foundries

• Subpart FFFFF—National Emission Standards for Integrated Iron and Steel

• Subpart GGGGG—NESHAP: Site Remediation

• Subpart HHHHH—NESHAP: Miscellaneous Coating Manufacturing

• Subpart IIIII—NESHAP: Mercury Emissions from Mercury Cell Chlor-Alkali Plants

• Subpart JJJJJ—National Emission Standards for Brick and Structural Clay Products Manufacturing

• Subpart KKKKK—NESHAP for Clay Ceramics Manufacturing

• Subpart LLLLL—National Emission Standards for Asphalt Roofing and Processing

• Subpart MMMMM—National Emission Standards for Flexible Polyurethane Foam Fabrication Operations

• Subpart NNNNN—NESHAP: Hydrochloric Acid Production

• Subpart PPPPP—National Emission Standards for Engine Test Cells/Stands

• Subpart QQQQQ—National Emission Standards for Friction Products Manufacturing

• Subpart RRRRR—NESHAP: Taconite Iron Ore Processing

• Subpart SSSSS—National Emission Standards for Refractory Products Manufacturing

• Subpart TTTTT—NESHAP for Primary Magnesium Refining

On March 16, 2007, EPA granted delegation to ADEQ for these NESHAP, along with any amendments to previously-ndash;delegated NESHAP, as of July 1, 2004. Today's action is serving to notify the public of the March 16, 2007, delegation and to codify these delegations into the Code of Federal Regulations.

ADEQ also included a request for delegation of the federal List of Hazardous Air Pollutants, Petitions Process, Lesser Quantity Designations, Source Category List codified at 40 CFR Part 63, Subpart C. This Subpart does not need to be delegated under the Clean Air Act section 112(l) approval process. EPA does not delegate to state or local agencies the authority to make changes to this federal list of pollutants, and Subpart C does not contain any provisions or authorities requiring implementation by state or local agencies. As a result, EPA is not taking action to delegate 40 CFR Part 63, Subpart C or its amendments to ADEQ.

C. NDEP Delegations

On May 27, 1998, EPA published a direct final action delegating to the Nevada Division of Environmental Protection (NDEP) several NESHAP and approving NDEP's delegation mechanism for future standards (see 63 FR 28906). That action explained the procedure for EPA to grant delegations to NDEP by letter, with periodic Federal Register listings of standards that have been delegated. On October 26, 2006, NDEP requested delegation of the NESHAP for Plywood and Composite Wood Products, 40 CFR part 63, subpart DDDD.

On January 12, 2007, EPA granted delegation to NDEP for this NESHAP, along with any amendments to previously-ndash;delegated NESHAP, as of July 1, 2006. Today's action is serving to notify the public of the January 12, 2007, delegations and to codify these delegations into the Code of Federal Regulations.

NDEP also included a request for delegation of the Federal list of hazardous air pollutants, codified at 40 CFR part 63, subpart C. There are no authorities to delegate in this Subpart, and EPA does not delegate to States the ability to make modifications to the list. As a result, EPA is not taking action to delegate 40 CFR part 63, subpart C or its amendments to NDEP.

II. EPA Action

Today's document serves to notify the public of the delegation of NESHAP to ADEQ on March 16, 2007, and to NDEP on January 12, 2007. Today's action will codify these delegations into the Code of Federal Regulations.

III. Statutory and Executive Order Reviews

Under Executive Order 12866 (58 FR 51735, October 4, 1993), this action is not a “significant regulatory action” and therefore is not subject to review by the Office of Management and Budget. For this reason, this action is also not subject to Executive Order 13211, “Actions Concerning Regulations That Significantly Affect Energy Supply, Distribution, or Use” (66 FR 28355, May 22, 2001). This action merely updates the list of approved delegations in the Code of Federal Regulations and imposes no additional requirements. Accordingly, the Administrator certifies that this rule will not have a significant economic impact on a substantial number of small entities under the Regulatory Flexibility Act (5 U.S.C. 601 et seq.). Because this rule does not impose any additional enforceable duty beyond that required by state law, it does not contain any unfunded mandate or significantly or uniquely affect small governments, as described in the Unfunded Mandates Reform Act of 1995 (Pub. L. 104-4).

This rule also does not have tribal implications because it will not have a substantial direct effect on one or more Indian tribes, on the relationship between the Federal Government and Indian tribes, or on the distribution of power and responsibilities between the Federal Government and Indian tribes, as specified by Executive Order 13175 (65 FR 67249, November 9, 2000). This action also does not have Federalism implications because it does not have substantial direct effects on the States, on the relationship between the national government and the States, or on the distribution of power and responsibilities among the various levels of government, as specified in Executive Order 13132 (64 FR 43255, August 10, 1999). This action merely updates the list of already-ndash;approved delegations, and does not alter the relationship or the distribution of power and responsibilities established in the CAA. This rule also is not subject to Executive Order 13045 “Protection of Children from Environmental Health Risks and Safety Risks” (62 FR 19885, April 23, 1997), because it approves a state rule implementing a Federal standard.

In reviewing State delegation submissions, our role is to approve State choices, provided that they meet the criteria of the CAA. In this context, in the absence of a prior existing requirement for the State to use voluntary consensus standards (VCS), EPA has no authority to disapprove State submissions for failure to use VCS. It would thus be inconsistent with applicable law for EPA, when it reviews a State submission, to use VCS in place of a State submission that otherwise satisfies the provisions of the CAA. Thus, the requirements of section 12(d) of the National Technology Transfer and Advancement Act of 1995 (15 U.S.C. 272 note) do not apply. This rule does not impose an information collection burden under the provisions of the Paperwork Reduction Act of 1995 (44 U.S.C. 3501 et seq.).

The Congressional Review Act, 5 U.S.C. section 801 et seq., as added by the Small Business Regulatory Enforcement Fairness Act of 1996, generally provides that before a rule may take effect, the agency promulgating the rule must submit a rule report, which includes a copy of the rule, to each House of the Congress and to the Comptroller General of the United States. EPA will submit a report containing this rule and other required information to the U.S. Senate, the U.S. House of Representatives, and the Comptroller General of the United States prior to publication of the rule in the Federal Register. A major rule cannot take effect until 60 days after it is published in the Federal Register. This action is not a “major rule” as defined by 5 U.S.C. 804(2).

Under section 307(b)(1) of the Clean Air Act, petitions for judicial review of this action must be filed in the United States Court of Appeals for the appropriate circuit by July 9, 2007. Filing a petition for reconsideration by the Administrator of this final rule does not affect the finality of this rule for the purposes of judicial review nor does it extend the time within which a petition for judicial review may be filed, and shall not postpone the effectiveness of such rule or action. This action may not be challenged later in proceedings to enforce its requirements (see section 307(b)(2)).

List of Subjects in 40 CFR Part 63

Environmental protection, Administrative practice and procedure, Air pollution control, Hazardous substances, Intergovernmental relations, Reporting and recordkeeping requirements.

Authority: This action is issued under the authority of Section 112 of the Clean Air Act, as amended, 42 U.S.C. 412.

Date Signed: April 19, 2007.
Deborah Jordan,
Director, Air Division, Region IX.

Title 40, chapter I, part 63 of the Code of Federal Regulations is amended as follows:

PART 63—[AMENDED]

1. The authority citation for Part 63 continues to read as follows:

Authority: 42 U.S.C. 7401 et seq.

Subpart E—Approval of State Programs and Delegation of Federal Authorities

2. Section 63.99 is amended by revising paragraphs (a)(3) and (a)(28)(i) to read as follows:

§ 63.99 Delegated Federal authorities.

(a) * * *

(3) The following table lists the specific part 63 standards that have been delegated unchanged to the air pollution control agencies in the State of Arizona. The (X) symbol is used to indicate each category that has been delegated.

Delegation Status for Part 63 Standards—Arizona
Subpart | Description | ADEQ ¹ | MCAQD ² | PDEQ ³ | PCAQCD ⁴
A | General Provisions | X | X | X | X
F | Synthetic Organic Chemical Manufacturing Industry | X | X | X | X
G | Synthetic Organic Chemical Manufacturing Industry: Process Vents, Storage Vessels, Transfer Operations, and Wastewater | X | X | X | X
H | Organic Hazardous Air Pollutants: Equipment Leaks | X | X | X | X
I | Organic Hazardous Air Pollutants: Certain Processes Subject to the Negotiated Regulation for Equipment Leaks | X | X | X | X
J | Polyvinyl Chloride and Copolymers Production | X | X |  |
L | Coke Oven Batteries | X | X | X | X
M | Perchloroethylene Dry Cleaning | X | X | X | X
N | Hard and Decorative Chromium Electroplating and Chromium Anodizing Tanks | X | X | X | X
O | Ethylene Oxide Sterilization Facilities | X | X | X | X
Q | Industrial Process Cooling Towers | X | X | X | X
R | Gasoline Distribution Facilities | X | X | X | X
S | Pulp and Paper | X | X | X |
T | Halogenated Solvent Cleaning | X | X | X | X
U | Group I Polymers and Resins | X | X | X | X
W | Epoxy Resins Production and Non-Nylon Polyamides Production | X | X | X | X
X | Secondary Lead Smelting | X | X | X | X
AA | Phosphoric Acid Manufacturing Plants | X | X | X |
BB | Phosphate Fertilizers Production Plants | X | X | X |
CC | Petroleum Refineries | X | X | X | X
DD | Off-Site Waste and Recovery Operations | X | X | X | X
EE | Magnetic Tape Manufacturing Operations | X | X | X | X
GG | Aerospace Manufacturing and Rework Facilities | X | X | X | X
HH | Oil and Natural Gas Production Facilities | X | X | X |
JJ | Wood Furniture Manufacturing Operations | X | X | X | X
KK | Printing and Publishing Industry | X | X | X | X
LL | Primary Aluminum Reduction Plants | X |  | X |
MM | Chemical Recovery Combustion Sources at Kraft, Soda, Sulfite, and Stand-Alone Semichemical Pulp Mills | X | X |  |
OO | Tanks—Level 1 | X | X | X | X
PP | Containers | X | X | X | X
QQ | Surface Impoundments | X | X | X | X
RR | Individual Drain Systems | X | X | X | X
SS | Closed Vent Systems, Control Devices, Recovery Devices and Routing to a Fuel Gas System or a Process | X | X | X |
TT | Equipment Leaks—Control Level 1 | X | X | X |
UU | Equipment Leaks—Control Level 2 | X | X | X |
VV | Oil-Water Separators and Organic-Water Separators | X | X | X | X
WW | Storage Vessels (Tanks)—Control Level 2 | X | X | X |
XX | Ethylene Manufacturing Process Units: Heat Exchange Systems and Waste Operations | X | X |  |
YY | Generic MACT Standards | X | X | X |
CCC | Steel Pickling | X | X | X |
DDD | Mineral Wool Production | X | X | X |
EEE | Hazardous Waste Combustors | X | X | X |
GGG | Pharmaceuticals Production | X | X | X |
HHH | Natural Gas Transmission and Storage Facilities | X | X | X |
III | Flexible Polyurethane Foam Production | X | X | X |
JJJ | Group IV Polymers and Resins | X | X | X | X
LLL | Portland Cement Manufacturing Industry | X | X | X |
MMM | Pesticide Active Ingredient Production | X | X | X |
NNN | Wool Fiberglass Manufacturing | X | X | X |
OOO | Manufacture of Amino/Phenolic Resins | X | X | X |
PPP | Polyether Polyols Production | X | X | X |
QQQ | Primary Copper Smelting | X | X | X |
RRR | Secondary Aluminum Production | X | X | X |
TTT | Primary Lead Smelting | X | X | X |
UUU | Petroleum Refineries: Catalytic Cracking, Catalytic Reforming, and Sulfur Recovery Units | X | X | X |
VVV | Publicly Owned Treatment Works | X | X | X |
XXX | Ferroalloys Production | X | X | X |
AAAA | Municipal Solid Waste Landfills | X | X | X |
CCCC | Manufacturing of Nutritional Yeast | X | X | X |
EEEE | Organic Liquids Distribution (non-gasoline) | X | X | X |
FFFF | Miscellaneous Organic Chemical Manufacturing | X | X | X |
GGGG | Solvent Extraction for Vegetable Oil Production | X | X | X |
HHHH | Wet-Formed Fiberglass Mat Production | X | X | X |
IIII | Surface Coating of Automobiles and Light-Duty Trucks | X | X |  |
JJJJ | Paper and Other Web Coating | X | X | X |
KKKK | Surface Coating of Metal Cans | X | X | X |
MMMM | Miscellaneous Metal Parts and Products | X | X | X |
NNNN | Large Appliances | X | X | X |
OOOO | Printing, Coating, and Dyeing of Fabrics and Other Textiles | X | X | X |
PPPP | Surface Coating of Plastic Parts and Products | X | X |  |
QQQQ | Wood Building Products | X | X | X |
RRRR | Surface Coating of Metal Furniture | X | X | X |
SSSS | Surface Coating of Metal Coil | X | X | X |
TTTT | Leather Finishing Operations | X | X | X |
UUUU | Cellulose Products Manufacturing | X | X | X |
VVVV | Boat Manufacturing | X | X | X |
WWWW | Reinforced Plastics Composites Production | X | X | X |
XXXX | Tire Manufacturing | X | X | X |
YYYY | Stationary Combustion Turbines | X | X | X |
ZZZZ | Stationary Reciprocating Internal Combustion Engines | X | X |  |
AAAAA | Lime Manufacturing Plants | X | X | X |
BBBBB | Semiconductor Manufacturing | X | X | X |
CCCCC | Coke Oven: Pushing, Quenching and Battery Stacks | X | X | X |
EEEEE | Iron and Steel Foundries | X | X | X |
FFFFF | Integrated Iron and Steel | X | X | X |
GGGGG | Site Remediation | X | X | X |
HHHHH | Miscellaneous Coating Manufacturing | X | X | X |
IIIII | Mercury Emissions from Mercury Cell Chlor-Alkali Plants | X | X | X |
JJJJJ | Brick and Structural Clay Products Manufacturing | X | X | X |
KKKKK | Clay Ceramics Manufacturing | X | X | X |
LLLLL | Asphalt Roofing and Processing | X | X | X |
MMMMM | Flexible Polyurethane Foam Fabrication Operation | X | X | X |
NNNNN | Hydrochloric Acid Production | X | X | X |
PPPPP | Engine Test Cells/Stands | X | X | X |
QQQQQ | Friction Products Manufacturing | X | X | X |
RRRRR | Taconite Iron Ore Processing | X | X | X |
SSSSS | Refractory Products Manufacturing | X | X | X |
TTTTT | Primary Magnesium Refining | X | X | X |
¹ Arizona Department of Environmental Quality.
² Maricopa County Air Quality Department.
³ Pima County Department of Environmental Quality.
⁴ Pinal County Air Quality Control District.

* * * * *

(28) * * *

(i) The following table lists the specific part 63 standards that have been delegated unchanged to the air pollution control agencies in the State of Nevada. The (X) symbol is used to indicate each category that has been delegated.

Delegation Status for Part 63 Standards—Nevada
Subpart | Description | NDEP¹ | WCAQMD² | CCDAQM³
A | General Provisions | X | X
F | Synthetic Organic Chemical Manufacturing Industry | X |  |
G | Synthetic Organic Chemical Manufacturing Industry: Process Vents, Storage Vessels, Transfer Operations, and Wastewater | X |  |
H | Organic Hazardous Air Pollutants: Equipment Leaks | X |  |
I | Organic Hazardous Air Pollutants: Certain Processes Subject to the Negotiated Regulation for Equipment Leaks | X |  |
J | Polyvinyl Chloride and Copolymers Production | X |  |
L | Coke Oven Batteries | X |  |
M | Perchloroethylene Dry Cleaning | X | X |
N | Hard and Decorative Chromium Electroplating and Chromium Anodizing Tanks | X | X |
O | Ethylene Oxide Sterilization Facilities | X | X |
Q | Industrial Process Cooling Towers | X |  |
R | Gasoline Distribution Facilities | X | X |
S | Pulp and Paper | X |  |
T | Halogenated Solvent Cleaning | X | X |
U | Group I Polymers and Resins | X |  |
W | Epoxy Resins Production and Non-Nylon Polyamides Production | X |  |
X | Secondary Lead Smelting | X |  |
Y | Marine Tank Vessel Loading Operations | X |  |
AA | Phosphoric Acid Manufacturing Plants | X |  |
BB | Phosphate Fertilizers Production Plants | X |  |
CC | Petroleum Refineries | X |  |
DD | Off-Site Waste and Recovery Operations | X |  |
EE | Magnetic Tape Manufacturing Operations | X |  |
GG | Aerospace Manufacturing and Rework Facilities | X |  |
HH | Oil and Natural Gas Production Facilities | X |  |
II | Shipbuilding and Ship Repair (Surface Coating) | X |  |
JJ | Wood Furniture Manufacturing Operations | X |  |
KK | Printing and Publishing Industry | X | X |
LL | Primary Aluminum Reduction Plants | X |  |
MM | Chemical Recovery Combustion Sources at Kraft, Soda, Sulfite, and Stand-Alone Semichemical Pulp Mills | X |  |
OO | Tanks—Level 1 | X |  |
PP | Containers | X |  |
QQ | Surface Impoundments | X |  |
RR | Individual Drain Systems | X |  |
SS | Closed Vent Systems, Control Devices, Recovery Devices and Routing to a Fuel Gas System or a Process | X |  |
TT | Equipment Leaks—Control Level 1 | X |  |
UU | Equipment Leaks—Control Level 2 | X |  |
VV | Oil-Water Separators and Organic-Water Separators | X |  |
WW | Storage Vessels (Tanks)—Control Level 2 | X |  |
XX | Ethylene Manufacturing Process Units: Heat Exchange Systems and Waste Operations | X |  |
YY | Generic MACT Standards | X |  |
CCC | Steel Pickling | X |  |
DDD | Mineral Wool Production | X |  |
EEE | Hazardous Waste Combustors | X |  |
GGG | Pharmaceuticals Production | X |  |
HHH | Natural Gas Transmission and Storage Facilities | X |  |
III | Flexible Polyurethane Foam Production | X |  |
JJJ | Group IV Polymers and Resins | X |  |
LLL | Portland Cement Manufacturing Industry | X |  |
MMM | Pesticide Active Ingredient Production | X |  |
NNN | Wool Fiberglass Manufacturing | X |  |
OOO | Manufacture of Amino/Phenolic Resins | X |  |
PPP | Polyether Polyols Production | X |  |
QQQ | Primary Copper Smelting | X |  |
RRR | Secondary Aluminum Production | X |  |
TTT | Primary Lead Smelting | X |  |
UUU | Petroleum Refineries: Catalytic Cracking, Catalytic Reforming, and Sulfur Recovery Units | X |  |
VVV | Publicly Owned Treatment Works | X |  |
XXX | Ferroalloys Production | X |  |
AAAA | Municipal Solid Waste Landfills | X |  |
CCCC | Manufacturing of Nutritional Yeast | X |  |
DDDD | Plywood and Composite Wood Products | X |  |
EEEE | Organic Liquids Distribution (non-gasoline) | X |  |
FFFF | Miscellaneous Organic Chemical Manufacturing | X |  |
GGGG | Solvent Extraction for Vegetable Oil Production | X |  |
HHHH | Wet-Formed Fiberglass Mat Production | X |  |
JJJJ | Paper and Other Web Coating | X |  |
KKKK | Surface Coating of Metal Cans | X |  |
MMMM | Miscellaneous Metal Parts and Products | X |  |
NNNN | Large Appliances | X |  |
OOOO | Printing, Coating, and Dyeing of Fabrics and Other Textiles | X |  |
QQQQ | Wood Building Products | X |  |
RRRR | Surface Coating of Metal Furniture | X |  |
SSSS | Surface Coating of Metal Coil | X |  |
TTTT | Leather Finishing Operations | X |  |
UUUU | Cellulose Products Manufacturing | X |  |
VVVV | Boat Manufacturing | X |  |
WWWW | Reinforced Plastics Composites Production | X |  |
XXXX | Tire Manufacturing | X |  |
YYYY | Stationary Combustion Turbines | X |  |
ZZZZ | Stationary Reciprocating Internal Combustion Engines | X |  |
AAAAA | Lime Manufacturing Plants | X |  |
BBBBB | Semiconductor Manufacturing | X |  |
CCCCC | Coke Oven: Pushing, Quenching and Battery Stacks | X |  |
DDDDD | Industrial, Commercial, and Institutional Boiler and Process Heaters | X |  |
EEEEE | Iron and Steel Foundries | X |  |
FFFFF | Integrated Iron and Steel | X |  |
JJJJJ | Brick and Structural Clay Products Manufacturing | X |  |
KKKKK | Clay Ceramics Manufacturing | X |  |
LLLLL | Asphalt Roofing and Processing | X |  |
MMMMM | Flexible Polyurethane Foam Fabrication Operation | X |  |
NNNNN | Hydrochloric Acid Production | X |  |
PPPPP | Engine Test Cells/Stands | X |  |
QQQQQ | Friction Products Manufacturing | X |  |
SSSSS | Refractory Products Manufacturing | X |  |
¹ Nevada Division of Environmental Protection.
² Washoe County Air Quality Management Division.
³ Clark County Department of Air Quality Management.

* * * * *

[FR Doc. E7-8686 Filed 5-7-07; 8:45 am]

BILLING CODE 6560-50-P